DEPARTMENT OF HEALTH AND HUMAN SERVICES

National Institutes of Health

Eunice Kennedy Shriver National Institute of Child Health and Human Development; Amended Notice of Meeting

Notice is hereby given of a change in the meeting of the Eunice Kennedy Shriver National Institute of Child Health and Human Development Special Emphasis Panel; National Centers for Translational Research in Reproduction and Infertility (P50 Clinical Trial Optional) (ZHD1 DSR-Z (55)), March 28, 2024, 9 a.m. to March 29, 2024, 5 p.m., NICHD, 6710 Rockledge Drive, Bethesda, MD 20892 which was published in the Federal Register on January 25, 2024, 89 FR 4966, FR Doc. 2024-01422.

Dr. Nanda has had to change the date of his ZHD1 DSR-Z (55) review meeting from 3/28 & 3/29 to 4/11 & 4/12. The meeting is closed to the public.

Dated: January 30, 2024.
Lauren A. Fleck,
Program Analyst, Office of Federal Advisory Committee Policy.

[FR Doc. 2024-02124 Filed 2-1-24; 8:45 am]

BILLING CODE 4140-01-P